DEPARTMENT OF ENERGY

Federal Energy Regulatory Commission

[Docket No. PF07-7-000]

Iroquois Gas Transmission System, L.P.; Notice of Intent To Prepare an Environmental Assessment; For the Proposed Iroquois 08/09 Expansion Project, Request for Comments on Environmental Issues, and Notice of Public Scoping Meetings

May 22, 2007.

The staff of the Federal Energy Regulatory Commission (FERC or Commission) will prepare an environmental assessment (EA) that will address the environmental impacts of the Iroquois 08/09 Expansion Project proposed by Iroquois Gas Transmission System, L.P. (Iroquois). The Commission will use the EA in its decision-making process to determine whether or not to authorize the project. This notice explains the scoping process the FERC staff will use to gather input from the public and interested agencies on the project. Your input will help us determine the issues that need to be evaluated in the EA. Please note that the scoping period will close on June 29, 2007.

Comments may be submitted in written or verbal form. Further details on how to submit written comments are provided in the Public Participation section of this notice. In lieu of sending written comments, the FERC staff invite you to attend the public scoping meetings we have scheduled as follows:

Date and time | Location
Monday, June 18, 2007, 7 p.m. to 9 p.m. (EST) | Milford City Hall Auditorium, 110 River Street, Milford, CT 06460, Telephone: (203) 783-3230.
Tuesday, June 19, 2007, 7 p.m. to 9 p.m. (EST) | Brookfield High School, 45 Long Meadow Hill Road, Brookfield, CT 06804, Telephone: (203) 775-7704.

This notice is being sent to affected landowners; Federal, State, and local government agencies; elected officials; environmental and public interest groups; Native American tribes; other interested parties; and local libraries and newspapers. We ¹ encourage government representatives to notify their constituents of this planned project and encourage them to comment on their areas of concern.

¹ “We,” “us,” and “our” refer to the environmental staff of the FERC's Office of Energy Projects.

If you are a landowner receiving this notice, you may be contacted by an Iroquois representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Iroquois proposes to construct the Iroquois 08/09 Expansion Project in three phases which would consist of: Looping its existing pipeline system at three locations in New York and Connecticut by November 1, 2008 (Phase 1); constructing a new compressor station in Milford, Connecticut with 20,620 horsepower of compression by January 1, 2009 (Phase 2); and adding a 10,310 horsepower compressor unit to Iroquois' Brookfield Compressor Station in Brookfield, Connecticut by November 1, 2009 (Phase 3).²

² The 7,700 horsepower Brookfield Compressor Station was approved by the Commission on December 21, 2006, as part of Iroquois' MarketAccess Project in Docket No. CP02-31-002. Construction of the Brookfield Compressor Station is scheduled to commence in the fall of 2007 and operation of the station is scheduled to commence in the fall of 2008.

The Phase 1 pipeline looping would include construction of 5.8 miles of 36-inch-diameter pipeline in Boonville, New York; 1.0 miles of 36-inch-diameter pipeline in Wright, New York; and 1.6 miles of 36-inch-diameter pipeline in Newtown, Connecticut. The new pipeline looping segments would be located adjacent to Iroquois' existing pipeline and connected to it at both ends.

The planned project would expand Iroquois existing system to deliver up to 200,000 dekatherms per day of natural gas transportation service to KeySpan Gas East Corporation at South Commack, Long Island. Iroquois plans to file its certificate application in September 2007 and anticipates receiving a Commission certificate by March 2008.

A general location of the proposed project is provided in Appendix 1.³

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Iroquois.

Land Requirements for Construction

The Iroquois 08/09 Expansion Project is in the preliminary planning stage. The precise facility design, pipeline route, rights-of-way, and other details have not yet been finalized. The proposed pipeline loops are being planned for routes adjacent to existing rights-of-way. Specific information on the proposed project location and the land used by it will be made available to the public when it is finalized.

Construction of the proposed pipeline loop segments would require about 176.1 acres of land for construction. Following construction, about 90.4 acres would be maintained for Iroquois' ongoing pipeline operation. The remaining 85.7 acres of land would be restored and allowed to revert to its former use. Construction of the proposed Milford Compressor Station would require use of about 4.8 acres of land, and operation of the station would require maintaining 4.6 acres of the affected land. The proposed modifications to the Brookfield Compressor Station would increase the compressor station yard area from 1.4 acres to 1.8 acres. All of the land required for the proposed Milford Compressor Station and the Brookfield Compressor Station modifications is currently owned by Iroquois.

The EA Process

The National Environmental Policy Act (NEPA) requires the Commission to take into account the environmental impacts that could result from an action when it considers whether or not an interstate natural gas pipeline should be approved. The FERC will use the EA to consider the environmental impact that could result if the Iroquois 08/09 Expansion Project is authorized under Section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

Our independent analysis of the issues will be included in the EA. We will also evaluate possible alternatives to the proposed project or portions of the project, and make recommendations on how to lessen or avoid impacts on affected resources.

The EA will be mailed to Federal, State, and local government agencies; elected officials; environmental and public interest groups; Native American tribes; affected landowners; commentors; other interested parties; local libraries and newspapers; and the FERC's official service list for this proceeding. A 30-day comment period will be allotted for review of the EA. We will consider all comments on the EA before we make our recommendations to the Commission. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed with the FERC.

With this notice, we are asking Federal, State, and local governmental agencies with jurisdiction and/or special expertise with respect to environmental issues, to express their interest in becoming cooperating agencies for the preparation of the EA. These agencies may choose to participate once they have evaluated the proposal relative to their responsibilities. Agencies that would like to request cooperating status should follow the instructions for filing comments provided below (see Public Participation).

Currently Identified Environmental Issues

The EA will discuss impacts that could occur as a result of the construction and operation of the proposed project. We have already identified several issues that we think deserve attention based on a preliminary review of the project site and the facility information provided by Iroquois. This preliminary list of issues may be changed based on your comments and our analysis.

• Potential impacts on perennial and intermittent streams and waterbodies.

• Evaluation of temporary and permanent impacts on wetlands and development of appropriate mitigation.

• Potential effect on federally and state-listed species.

• Potential impacts on existing land uses, including managed forested lands.

• Potential visual effects of the aboveground facilities on surrounding areas.

• Potential impacts to local air and noise quality associated with construction and operation.

• Public safety and potential hazards associated with the transport of natural gas and the proposed compressor facilities.

Public Participation

You can make a difference by providing us with your specific comments or concerns about the proposed project. By becoming a commentor, your concerns will be addressed in the EA and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 1, DG2E.

• Reference Docket No. PF07-7-000 on the original and both copies.

• Mail your comments so that they will be received in Washington, DC on or before June 29, 2007.

The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments, you will need to create a free account, which can be created on-line.

The public scoping meetings (dates, times, and locations are listed above) are designed to provide another opportunity to offer comments on the proposed project. Interested groups and individuals are encouraged to attend the meetings and to present comments on the environmental issues they believe should be addressed in the EA. A transcript of each meeting will be generated so that your comments will be accurately recorded.

Once Iroquois formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. If you received this notice, you are currently on the environmental mailing list for this project. If you want to remain on our mailing list, please return the attached Information Request (Appendix 2). All individuals who provide written comments, attend the scoping meetings, or return the Information Request will remain on our environmental mailing list for this project.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF07-7) in the “Docket Number” field. Be sure you have selected an appropriate date range. For assistance, please contact FERC Online Support at FERCOnlineSupport@ferc.gov or toll free at 1-866-208-3676, or TTY, contact (202) 502-8659. The eLibrary link on the FERC Internet website also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm. Public meetings or site visits will be posted on the Commission's calendar located at http://www.ferc.gov/EventCalendar/EventsList.aspx along with other related information.

Finally, Iroquois has established an Internet website for this project at http://08-09.iroquois.com. The Web site includes a description of the project, maps of the proposed pipeline facilities, and answers to frequently asked questions. You can also request additional information or provide comments directly to Iroquois by phone at 1-800-253-5152, or by mail at the following address: Ruth Parkins, Public Affairs Manager, Iroquois Pipeline Operating Company, One Corporate Drive, Suite 600, Shelton, CT 06484. E-mail: ruth_parkins@iroquois.com.

Kimberly D. Bose,
Secretary.

[FR Doc. E7-10449 Filed 5-30-07; 8:45 am]

BILLING CODE 6717-01-P